FEDERAL COMMUNICATIONS COMMISSION

[FR ID 170186]

Privacy Act of 1974; Matching Program; Correction

AGENCY: Federal Communications Commission.

ACTION: Notice; correction.

SUMMARY: The Federal Communications Commission published a document in the Federal Register of August 29, 2023, concerning a new Matching Program. The document provided an incorrect effective date and ending date of a new matching agreement between the Federal Communications Commission and the Department of Health and Human Services, Centers for Medicare and Medicaid Services.

FOR FURTHER INFORMATION CONTACT: Lori Alexiou, (202) 418-2001, or privacy@fcc.gov.

SUPPLEMENTARY INFORMATION:

Correction

In the Federal Register of August 29, 2023, in FR Doc. 88-59523, on page 59523, in the third column, correct the DATES caption to read:

DATES: Written comments are due on or before September 28, 2023. This computer matching program will commence on October 15, 2023, and will conclude on April 14, 2025.

Dated: September 6, 2023.
Federal Communications Commission.
Katura Jackson,
Federal Register Liaison Officer, Office of the Secretary.

[FR Doc. 2023-19613 Filed 9-11-23; 8:45 am]

BILLING CODE 6712-01-P